DEPARTMENT OF AGRICULTURE

Agricultural Marketing Service

7 CFR Part 920

[Docket No. FV02-920-1C IFR]

Kiwifruit Grown in California; Relaxation of Pack Requirements

AGENCY: Agricultural Marketing Service, USDA.

ACTION: Correction to interim final rule.

SUMMARY: This document contains a correction to the interim final rule published on October 29, 2001 (66 FR 54411), concerning kiwifruit grown in California. The correction is made in the amendatory instruction section of the interim final rule.

EFFECTIVE DATE: October 24, 2001.

FOR FURTHER INFORMATION CONTACT: Rose M. Aguayo, Marketing Specialist, California Marketing Field Office, Marketing Order Administration Branch, Fruit and Vegetable Programs, AMS, USDA, 2202 Monterey Street, suite 102B, Fresno, California 93721; telephone: (559) 487-5901, Fax: (559) 487-5906; or George Kelhart, Technical Advisor, Marketing Order Administration Branch, Fruit and Vegetable Programs, AMS, USDA, room 2525-S, P.O. Box 96456, Washington, DC 20090-6456; telephone: (202) 720-2491, Fax: (202) 205-8938.

Small businesses may request information on compliance with this regulation by contacting Jay Guerber, Marketing Order Administration Branch, Fruit and Vegetable Programs, AMS, USDA, room 2525-S, P.O. Box 96456, Washington, DC 20090-6456; telephone: (202) 720-2491, Fax: (202) 205-8938 or e-mail: Jay.Guerber@usda.gov.

SUPPLEMENTARY INFORMATION:

Background

This rule allows handlers to pack more individual pieces of fruit per 8-pound sample for seven size designations, eliminates one size designation, and adds two new size designations. These changes were unanimously recommended by the Committee and are expected to increase grower returns and enable handlers to compete more effectively in the marketplace. The rule was issued under Marketing Order No. 920, as amended (7 CFR part 920). The order is effective under the Agricultural Marketing Agreement Act of 1937, as amended (7 U.S.C. 601-674).

Need for Correction

The interim final rule as published contains an error in the amendatory instructions affecting 7 CFR part 920. The amendatory instructions incorrectly indicate that the revised table in § 920.302 appears at the end of paragraph (a)(4)(iv). The revised table actually appears at the end of paragraph (a)(4)(iii) of that section.

Correction of Publication

Accordingly, in FR Doc. 01-27205, published October 29, 2001, page 54411, make the following corrections:

§ 920.302 [Corrected]

1. On page 54414, in column 1, the amendatory instructions in number 2, are corrected to read as follows:

2. In § 920.302 the table in paragraph (a)(4)(iii) is revised to read as follows:

2. On page 54414, in column 1, in § 920.302, the paragraph designation (a)(4)(iv) is corrected to read (a)(4)(iii).

Dated: January 3, 2002.
A.J. Yates,
Administrator, Agricultural Marketing Service.

[FR Doc. 02-578 Filed 1-10-02; 8:45 am]

BILLING CODE 3410-02-P